DEPARTMENT OF DEFENSE

Department of the Navy

Notice of Record of Decision for Homeporting of Additional Surface Ships at Naval Station Mayport, FL

AGENCY: Department of the Navy, DoD.

ACTION: Notice.

SUMMARY: The Department of the Navy (DON), after carefully weighing the strategic, operational, and environmental consequences of the proposed action, announces its decision to homeport one nuclear-powered aircraft carrier (CVN) at Naval Station (NAVSTA) Mayport. Today's decision does not relocate a specific CVN to NAVSTA Mayport. It does initiate a multi-year process for developing operational, maintenance, and support facilities at NAVSTA Mayport to support homeporting of one CVN.

This multi-year process includes implementing projects for dredging and dredged material disposal, construction of CVN nuclear propulsion plant maintenance facilities, wharf improvements, transportation improvements, and construction of a parking structure to replace existing parking that would be displaced by development of the CVN nuclear propulsion plant maintenance facilities. The projects necessary to create the capacity to support CVN homeporting could be completed as early as 2014. No CVN homeport change will occur before operational, maintenance, and support facility projects are completed.

Selection of the CVN to be homeported at NAVSTA Mayport would not occur until approximately one year prior to the ship's transfer to NAVSTA Mayport. Selection of a specific CVN for homeporting at NAVSTA Mayport will be based upon then current operational needs, strategic considerations, and maintenance cycles.

The DON environmental analysis included extensive studies regarding impacts associated with dredging, facility construction, and homeport operations. The environmental analysis undertaken by the DON included lengthy and detailed consultations with regulatory agencies, such as the U.S. Fish and Wildlife Service (USFWS) and the National Marine Fisheries Service (NMFS), regarding impacts to endangered and threatened species, and the U.S. Army Corps of Engineers (USACE) and the Environmental Protection Agency (EPA) regarding dredging operations and the in-water disposal of dredged materials. Public awareness and participation were integral components of the Environmental Impact Statement (EIS) process.

SUPPLEMENTARY INFORMATION: The Record of Decision (ROD) has been distributed to all those individuals who requested a copy of the Final EIS and agencies and organizations that received a copy of the Final EIS. The complete text of the Navy's ROD is available for public viewing on the project Web site at http://www.mayporthomeportingeis.com. along with copies of the FEIS and supporting documents. Single copies of the ROD will be made available upon request by contacting Naval Facilities Engineering Command, Southeast, Attn: Mr. Royce Kemp, Building 903, Naval Air Station, Jacksonville, FL 32212-0030 Phone: 904-542-6899.

Dated: January 14, 2009.
A.M. Vallandingham,
Lieutenant Commander, Judge Advocate General's Corps, U.S. Navy, Federal Register Liaison Officer.

[FR Doc. E9-1099 Filed 1-16-09; 8:45 am]

BILLING CODE 3810-FF-P